ENVIRONMENTAL PROTECTION AGENCY

[ER-FRL-9028-4]

Environmental Impact Statements; Notice of Availability

Responsible Agency: Office of Federal Activities, General Information (202) 564-7146 or http://www.epa.gov/nepa.

Weekly receipt of Environmental Impact Statements (EISs)

Filed 07/25/2016 Through 07/29/2016

Pursuant to 40 CFR 1506.9.

Notice

Section 309(a) of the Clean Air Act requires that EPA make public its comments on EISs issued by other Federal agencies. EPA's comment letters on EISs are available at: http://www.epa.gov/compliance/nepa/eisdata.html.

EIS No. 20160177, Draft Supplement, FHWA, VA, Hampton Roads Crossing Study, Comment Period Ends: 09/19/2016, Contact: Edward Sundra 804-775-3357

EIS No. 20160178, Final, BLM, CO, Previously Issued Oil and Gas Leases in the White River National Forest, Review Period Ends: 09/06/2016, Contact: Gregory Larson 970-876-9000

EIS No. 20160179, Final, AFS, MT, Lower Yaak, OBrien, Sheep Project, Review Period Ends: 09/06/2016, Contact: Miles Friend 406-295-4693

EIS No. 20160180, Final, FERC, TX, Golden Pass LNG Export Project, Review Period Ends: 09/06/2016, Contact: Eric Howard 202-502-6263

EIS No. 20160181, Final, FERC, OH, Rover Pipeline, Panhandle Backhaul, and Trunkline Backhaul Projects, Review Period Ends: 09/06/2016, Contact: Kevin Bowman 202-502-6287

EIS No. 20160182, Final, BLM, CA, West of Devers Upgrade Project, Review Period Ends: 09/06/2016, Contact: Frank McMenimen 760-833-7150

Dated: August 2, 2016.
Karin Leff,
Acting Director, NEPA Compliance Division, Office of Federal Activities.

[FR Doc. 2016-18661 Filed 8-4-16; 8:45 am]

BILLING CODE 6560-50-P